DEPARTMENT OF DEFENSE

Defense Acquisition Regulations System

Information Collection Requirement; Defense Federal Acquisition Regulation Supplement; DoD Acquisition Process—Miscellaneous Requirements (OMB Control Number 0704-0187)

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through February 28, 2009. DoD proposes that OMB extend its approval for use for three additional years.

DATES: DoD will consider all comments received by January 23, 2009.

ADDRESSES: You may submit comments, identified by OMB Control Number 0704-0187, using any of the following methods:

○ Federal eRulemaking Portal: http://www.regulations.gov. Follow the instructions for submitting comments.

○ E-mail: dfars@osd.mil. Include OMB Control Number 0704-0187 in the subject line of the message.

○ Fax: 703-602-7887.

○ Mail: Defense Acquisition Regulations System, Attn: Ms. Amy Williams, OUSD (AT&L) DPAP (DARS), IMD 3D139, 3062 Defense Pentagon, Washington, DC 20301-3062.

○ Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Amy Williams, 703-602-0328. The information collection requirements addressed in this notice are available on the World Wide Web at: http://www.acq.osd.mil/dpap/dars/dfarspgi/current/index.html. Paper copies are available from Ms. Amy Williams, OUSD (AT&L) DPAP (DARS), IMD 3D139, 3062 Defense Pentagon, Washington, DC 20301-3062.

SUPPLEMENTARY INFORMATION: Title and OMB Number: Information Collection in Support of the DoD Acquisition Process (Miscellaneous Requirements) (Defense Federal Acquisition Regulation Supplement (DFARS) Parts 208, 209, 226, and 235 and associated clauses in Part 252); OMB Control Number 0704-0187.

Needs and Uses: This information collection requirement pertains to information required by DFARS Parts 208, 209, 226, and 235 and associated clauses in Part 252, that an offeror must submit to DoD with regard to a solicitation or contract requirement. DoD uses this information to—

○ Determine whether to provide precious metals as Government-furnished material.

○ Determine an entity's eligibility for award of a contract under a national security program.

○ Determine whether there is a compelling reason for a contractor to enter into a subcontract with a firm, or subsidiary of a firm, that is identified in the List of Parties Excluded from Federal Procurement and Nonprocurement Programs as being ineligible for award of Defense contracts or subcontracts because it is owned or controlled by the government of a terrorist country.

○ Verify the status of an offeror as a historically black college or university (HBCU) or minority institution (MI) in order to determine whether the offeror is eligible for award under a HBCU/MI set-aside.

○ Evaluate claims of indemnification for loss or damage occurring under a research and development contract.

○ Keep track of radio frequencies for electronic equipment under research and development contracts, so that the user does not interfere with other use of the same frequency.

Affected Public: Businesses or other for-profit and not-for-profit institutions.

Annual Burden Hours: 1,845.

Number of Respondents: 698.

Responses per Respondent: Approximately 2.

Annual Responses: 1,260.

Average Burden per Response: 1.5 hours.

Frequency: On occasion.

Summary of Information Collection

This information collection pertains to the following DFARS requirements:

○ 252.208-7000, Intent to Furnish Precious Metals as Government-Furnished Material. Paragraph (b) of this clause requires an offeror to cite the type and quantity of precious metals required in the performance of the contract. Paragraph (c) requires the offeror to submit two prices for each deliverable item that contains precious metals: One based on the Government furnishing the precious metals, and the other based on the contractor furnishing the precious metals.

○ 252.209-7001, Disclosure of Ownership or Control by the Government of a Terrorist Country. Paragraph (c) of this provision requires an offeror to provide a disclosure with its offer if the government of a terrorist country has a significant interest in the offeror, in a subsidiary of the offeror, or in a parent company of which the offeror is a subsidiary.

○ 252.209-7002, Disclosure of Ownership or Control by a Foreign Government. Paragraph (c) of this provision requires the offeror to provide a disclosure with its offer of any interest a foreign government has in the offeror when that interest constitutes control of the offeror by a foreign government.

○ 252.209-7004, Subcontracting with Firms that are Owned or Controlled by the Government of a Terrorist Country. Paragraph (b) of this clause requires the Contractor to notify the contracting officer in writing before entering into a subcontract with a party that is identified in the List of Parties Excluded from Federal Procurement and Nonprocurement Programs as being ineligible for award of Defense contracts or subcontracts because it is owned or controlled by the government of a terrorist country. The notice must include the compelling reasons for doing business with the subcontractor.

○ 252.226-7000, Notice of Historically Black College or University and Minority Institution Set-Aside. Paragraph (c)(2) of this clause requires that, upon request of the contracting officer, the offeror will provide evidence prior to award that the Secretary of Education has determined the offeror to be a historically black college or university or minority institution.

○ 252.235-7000, Indemnification Under 10 U.S.C. 2534—Fixed Price; and 252.235-7001, Indemnification Under 10 U.S.C. 2534—Cost-Reimbursement. Paragraphs (f) and (e), respectively, of these clauses require the contractor to notify the contracting officer of any claim that might trigger the Government's liability under the clause, to furnish proof or evidence of any such claim, and to provide copies of all pertinent papers relating to the claim.

○ 252.235-7003, Frequency Authorization. Paragraph (b) of this clause requires that the contractor provide to the contracting officer the technical operating characteristics for any experimental, developmental, or operational equipment for which the appropriate frequency allocation has not been made.

Michele P. Peterson,
Editor, Defense Acquisition Regulations System.

[FR Doc. E8-27787 Filed 11-21-08; 8:45 am]

BILLING CODE 5001-08-P